DEPARTMENT OF THE INTERIOR

National Park Service

[NPS-WASO-CR-NAGPRA; PPWOCRADN0, PCU00RP14.R50000; OMB Control Number 1024-0144]

Agency Information Collection Activities; Submission to the Office of Management and Budget for Review and Approval; Native American Graves Protection and Repatriation Regulations

AGENCY: National Park Service, Interior.

ACTION: Notice of information collection; request for comment.

SUMMARY: In accordance with the Paperwork Reduction Act of 1995, we, the National Park Service (NPS) are proposing to renew an information collection.

DATES: Interested persons are invited to submit comments on or before January 2, 2019.

ADDRESSES: Send written comments on this information collection request (ICR) to the Office of Management and Budget's Desk Officer for the Department of the Interior by email at OIRA_Submission@omb.eop.gov; or via facsimile to (202) 395-5806. Please provide a copy of your comments to Phadrea D. Ponds, Information Collection Clearance Officer, National Park Service, 1201 Oakridge Drive, Fort Collins, CO 80525; or by email to phadrea_ponds@nps.gov. Please reference OMB Control Number 1024-0144 in the subject line of your comments.

FOR FURTHER INFORMATION CONTACT: To request additional information about this ICR, contact Melanie O'Brien, Manager, National NAGPRA Program by email at melanie_o'brien@nps.gov, or by telephone at (202) 354-2204. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 26, 2018, Year (83 FR 12960). No comments were received.

We are again soliciting comments on the proposed information collection request (ICR) that is described below. We are especially interested in public comment addressing the following issues: (1) Is the collection necessary to the proper functions of the NPS, (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Native American Graves Protection and Repatriation Act of 1990 (25 U.S.C. 3001-3013) requires all public and private museums receiving Federal funds (other than the Smithsonian Institution) to compile summaries, inventories, and notices regarding Native American cultural items in their possession or control. This information must be provided to lineal descendants, likely interested Indian tribes, Native Hawaiian organizations, and the NPS National NAGPRA Program. Under NAGPRA and its implementing regulations, we are mandated to collect any information that is pertinent in determining the cultural affiliation and geographical origin of Native American human remains and cultural items. This include descriptions, acquisition data, and records of consultation. Once the identity and cultural affiliation of human remains and cultural items are determined, the museum must send written notice of determination to the affected Indian tribes or Native Hawaiian organizations and the NAGPRA Program for publication in the Federal Register.

Title of Collection: Native American Graves Protection and Repatriation Regulations, 43 CFR 10.

OMB Control Number: 1024-0144.

Form Number: None.

Type of Review: Extension of a currently approved collection.

Respondents/Affected Public: State, local and tribal governments, universities, museums, etc. that receives Federal funds and has possession of, or control over, Native American human remains, funerary objects, sacred objects, or objects of cultural patrimony.

Total Estimated Number of Annual Respondents: 448.

Total Estimated Number of Annual Responses: 448.

Estimated Completion Time per Response: Varies from 10 hours to 100 hours, depending on respondent and/or activity.

Total Estimated Number of Annual Burden Hours: 4,470.

Respondent's Obligation: Mandatory.

Frequency of Collection: On occasion.

Total Estimated Annual Nonhour Burden Cost: None.

Respondents | Total annual responses | Average time/ response (hours) | Total annual burden
New Summary/Inventory:
—Private Museums | 1 | 100 | 100
—State and Local Govt | 2 | 100 | 200
Updated Summary/Inventory Data:
—Private Museums | 130 | 10 | 1,300
—State and Local Govt | 180 | 10 | 1,800
Notices:
—Private Museums | 41 | 10 | 410
—State and Local Govt | 64 | 10 | 640
Notify Tribes/Request Information:
—Private Museums | 4 | 30 | 2
—State and Local Govt | 10 | 30 | 5
Respond to Request for Information:
—State and Local Govt | 16 | 48 | 13
Totals | 448 |  | 4,470

An agency may not conduct or sponsor and a person is not required to respond to a collection of information unless it displays a currently valid OMB control number.

The authority for this action is the Paperwork Reduction Act of 1995 (44 U.S.C. 3501 et seq.).

Phadrea D. Ponds,
Acting NPS Information Collection Clearance Officer, National Park Service.

[FR Doc. 2018-26142 Filed 11-30-18; 8:45 am]

BILLING CODE 4312-52-P